DEPARTMENT OF JUSTICE

Federal Bureau of Investigation

[OMB Number 1110-0001]

Agency Information Collection Activities: Proposed Collection, Comments Requested

ACTION: 60-day Notice of Information Collection Under Review: Extension of a currently approved collection; Return A—Monthly Return of Offenses Known to the Police; Supplement to Return A—Monthly Return of Offenses Known to the Police

The Department of Justice, Federal Bureau of Investigation, Criminal Justice Information Services Division will be submitting the following information collection request to the Office of Management and Budget (OMB) for review and clearance in accordance with established review procedures of the Paperwork Reduction Act of 1995. The proposed information collection is published to obtain comments from the public and affected agencies. Comments are encouraged and will be accepted until December 4, 2009. This process is conducted in accordance with 5 CFR 1320.10.

All comments and suggestions, or questions regarding additional information, to include obtaining a copy of the proposed information collection instrument with instructions, should be directed to Gregory E. Scarbro, Unit Chief, Federal Bureau of Investigation, Criminal Justice Information Services Division (CJIS), Module E-3, 1000 Custer Hollow Road, Clarksburg, West Virginia 26306, or facsimile to (304) 625-3566.

Written comments and suggestions from the public and affected agencies concerning the proposed collection of information are encouraged. Comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques of other forms of information technology, e.g., permitting electronic submission of responses.

Overview of This Information Collection

(1) Type of information collection: Extension of a currently approved collection.

(2) The title of the form/collection: Return A—Monthly Return of Offenses Known to the Police and Supplement to Return A—Monthly Return of Offenses Known to the Police.

(3) The agency form number, if any, and the applicable component of the department sponsoring the collection: Forms 1-720, 1-720a, 1-720b, 1-720c, 1-720d, 1-720e, and 1-706; Criminal Justice Information Services Division, Federal Bureau of Investigation, Department of Justice.

(4) Affected public who will be asked or required to respond, as well as a brief abstract: Primary: City, county, state, federal, and tribal law enforcement agencies.

This collection is needed to collect information on Part I offense, rate, trend, and clearance data as well as stolen and recovered monetary values of stolen property throughout the United States. Data are tabulated and published in the semiannual and preliminary reports and the annual Crime in the United States.

(5) An estimate of the total number of respondents and the amount of time estimated for an average respondent to respond: There are approximately 17,738 law enforcement agency respondents at 10 minutes for hard copy and 5 minutes for electronic submissions for the Return A and 11 minutes for hard copy and 5 minutes for electronic submissions for the Supplement to Return A.

(6) An estimate of the total public burden (in hours) associated with this collection:

There are approximately 40,114 hours, annual burden, associated with this information collection.

If additional information is required contact: Ms. Lynn Bryant, Department Clearance Officer, Policy and Planning Staff, Justice Management Division, United States Department of Justice, Patrick Henry Building, Suite 1600, 601 D Street, NW., Washington, DC 20530.

Dated: September 29, 2009
Lynn Bryant,
Department Clearance Officer, United States Department of Justice

[FR Doc. E9-23867 Filed 10-2-09; 8:45 am]

BILLING CODE 4410-02-P